DEPARTMENT OF COMMERCE

National Oceanic and Atmospheric Administration

RIN 0648-XD505

Endangered Species; File No. 18688

AGENCY: National Marine Fisheries Service (NMFS), National Oceanic and Atmospheric Administration (NOAA), Commerce.

ACTION: Notice; receipt of application for a permit modification.

SUMMARY: Notice is hereby given that NMFS Pacific Islands Regional Office, 1601 Kapiolani Boulevard, Suite 1110, Honolulu, HI 96814 [Responsible Party: Michael Tosatto], has requested a modification to scientific research Permit No. 18688.

DATES: Written, telefaxed, or email comments must be received on or before December 21, 2017.

ADDRESSES: The modification request and related documents are available for review by selecting “Records Open for Public Comment” from the Features box on the Applications and Permits for Protected Species (APPS) home page, https://apps.nmfs.noaa.gov, and then selecting File No. 18688 Mod 3 from the list of available applications. These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Erin Markin, (301) 427-8401.

SUPPLEMENTARY INFORMATION: The subject modification to Permit No. 18688, issued on May 5, 2015 (80 FR 36769), is requested under the authority of the Endangered Species Act of 1973, as amended (16 U.S.C. 1531 et seq.) and the regulations governing the taking, importing, and exporting of endangered and threatened species (50 CFR parts 222-226).

Permit No. 18688 authorizes the permit holder to conduct research on sea turtles bycaught in three longline fisheries in the Pacific Ocean around Hawaii and American Samoa to assess sea turtle post-hooking survival, movements, and ecology in pelagic habitats. The permit authorizes examination, morphometrics, biological sampling, and tagging of live hawksbill (Eretmochelys imbricata), olive ridley (Lepidochelys olivacea), leatherback (Dermochelys coriacea), loggerhead (Caretta caretta) and green (Chelonia mydas) sea turtles and the collection of carcasses, tissues and parts from dead sea turtles. Authorized take numbers for each species were consistent with the number of turtles allowed to be bycaught via the biological opinion prepared for each fishery. The permit holder requests authorization to increase the number of animals for each species that may be taken for research in the American Samoa longline fishery to match the incidental take statement of a new biological opinion prepared for this fishery after Permit No. 18688 was issued. Live sea turtles would undergo the same procedures as currently authorized by the permit. No other changes are requested.

Dated: November 16, 2017.
Julia Harrison,
Chief, Permits and Conservation Division, Office of Protected Resources, National Marine Fisheries Service.

[FR Doc. 2017-25163 Filed 11-20-17; 8:45 am]

BILLING CODE 3510-22-P